DEPARTMENT OF COMMERCE

National Oceanic and Atmospheric Administration

[I.D. 010804B]

Pacific Fishery Management Council; Public Meeting

AGENCY: National Marine Fisheries Service (NMFS), National Oceanic and Atmospheric Administration (NOAA), Commerce.

ACTION: Notice of public meeting.

SUMMARY: The Pacific Fishery Management Council's (Council) Highly Migratory Species Management Team (HMSMT) will hold a work session, which is open to the public.

DATES: The work session will be Tuesday, January 27, 2004 from 1 p.m. until 5 p.m. and Wednesday, January 28, 2004 from 8 a.m. until business for the day is completed.

ADDRESSES: The work session will be held at NMFS, Southwest Fisheries Science Center, Large Conference Room, 8604 La Jolla Shores Drive, Room D-203, La Jolla, CA 92037; telephone: (858) 546-7000.

Council address: Pacific Fishery Management Council, 7700 NE Ambassador Place, Suite 200, Portland, OR 97220-1384.

FOR FURTHER INFORMATION CONTACT: Mr. Dan Waldeck, Pacific Fishery Management Council; telephone: (503) 820-2280.

SUPPLEMENTARY INFORMATION: The main purpose of this work session is for the HMSMT to continue work on development of initial recommendations for a limited entry program for the high seas longline fishery, including potential control dates, qualifying periods, qualifying landing amounts, capacity goals, and permit transferability considerations. This HMSMT work session is for the purpose of developing information for the Council's consideration at a future Council meeting; formal action on limited entry or other HMS fishery management plan (FMP)-related issues will not occur at this work session.

Although nonemergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

The meeting is physically accessible to people with disabilities. Requests for sign language interpretation or other auxiliary aids should be directed to Ms. Carolyn Porter at (503) 820-2280 at least 5 days prior to the meeting date.

Dated: January 8, 2004.
Peter H. Fricke,
Acting Director, Office of Sustainable Fisheries, National Marine Fisheries Service.

[FR Doc. 04-818 Filed 1-13-04; 8:45 am]

BILLING CODE 3510-22-S